POSTAL SERVICE

Sunshine Act Meetings

TIME AND DATE: Wednesday, November 9, 2022, at 9:00 a.m.; Thursday, November 10, 2022, at 8:30 a.m.

PLACE: Washington, DC, at U.S. Postal Service Headquarters, 475 L'Enfant Plaza SW, in the Benjamin Franklin Room.

STATUS: Wednesday, November 9, 2022, at 9:00 a.m.—Closed. Thursday, November 10, 2022, at 8:30 a.m.—Open.

MATTERS TO BE CONSIDERED:

Wednesday, November 9, 2022, at 9:00 a.m. (Closed)

1. Strategic Issues.

2. Financial and Operational Matters.

3. Compensation and Personnel Matters

4. Executive Session.

5. Administrative Items.

Thursday, November 10, 2022, at 8:30 a.m. (Open)

1. Remarks of the Chairman of the Board of Governors.

2. Remarks of the Postmaster General and CEO.

3. Approval of the Minutes.

4. Committee Reports.

5. Financial Matters.

a. FY2022 Annual Financial Report.

b. FY2022 10K and Financial Statements.

c. Annual Report to Congress.

d. FY2023 Integrated Financial Plan and Liquidity Outlook.

e. FY2024 Congressional Reimbursement Request.

6. Quarterly Service Performance Report.

7. Approval of Tentative Agenda for the February 9, 2023 Meeting.

8. Election of Chairman and Vice Chairman.

A public comment period will begin immediately following the adjournment of the open session on November 10, 2022. During the public comment period, which shall not exceed 45 minutes, members of the public may comment on any item or subject listed on the agenda for the open session. Registration of speakers at the public comment period is required. Additionally, the public will be given the option to join the public comment session and participate via teleconference. Should you wish to participate via teleconference, you will be required to give your first and last name, a valid email address to send an invite and a phone number to reach you should a technical issue arise. Speakers may register online at https://www.surveymonkey.com/r/BOG-11-10-2022. No more than three minutes shall be allotted to each speaker. The time allotted to each speaker will be determined after registration closes. Registration for the public comment period, either in person or via teleconference, will end on November 8 at noon ET. Participation in the public comment period is governed by 39 CFR 232.1(n).

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2022-23895 Filed 10-31-22; 11:15 am]

BILLING CODE 7710-12-P